DEPARTMENT OF AGRICULTURE

Forest Service

Tongass National Forest; Alaska; Plan of Operations Amendment 1 for the Kensington Gold Mine

AGENCY: Forest Service, USDA.

ACTION: Notice of intent to prepare a Supplemental Environmental Impact Statement.

SUMMARY: In December 2018, the USDA Forest Service (Forest Service), Tongass National Forest, received a proposal from Coeur Alaska, Inc. (Coeur Alaska), the owner/operator of the Kensington Gold Mine (Mine), to amend the 2005 Plan of Operations. This proposed life of mine extension, as described in Coeur Alaska's proposed Plan of Operations Amendment 1 (POA 1), would expand the disturbance area currently approved by the Forest Service under the 2004 Kensington Gold Project Final Supplemental Environmental Impact Statement (SEIS). To assess Coeur Alaska's proposed POA 1, the Forest Service will prepare a new SEIS. This notice advises the public that the Tongass National Forest is gathering information necessary to prepare an SEIS to evaluate the effects of changing the Plan of Operations via Coeur Alaska's proposed POA 1.

DATES: Comments concerning the scope of the analysis must be received by November 7, 2019. The Draft SEIS is expected October 2020 and the Final SEIS is expected July 2021.

ADDRESSES: Comments may be submitted electronically at https://www.fs.usda.gov/project/?project=55533 or via facsimile to (907) 586-8808. In addition, written comments can be delivered or mailed to: Tongass National Forest, Kensington Gold Mine POA1 SEIS, 8510 Mendenhall Loop Rd., Juneau, Alaska 99801.

FOR FURTHER INFORMATION CONTACT: Matthew Reece, Minerals Program Manager, Tongass National Forest at the Juneau Ranger District, 8510 Mendenhall Loop Rd., Juneau, Alaska 99801 or by telephone at (907) 586-8800, between 8:00 a.m. and 4:00 p.m., Alaska Standard Time, Monday through Friday.

Individuals who use telecommunication devices for the deaf (TDD) may call the Federal Information Relay Service (FIRS) at 1-800-877-8339 between 8 a.m. and 8 p.m., Eastern Time, Monday through Friday.

SUPPLEMENTARY INFORMATION: This SEIS will tier to and incorporate by reference the 1992 Kensington Gold Project Final EIS and the 1997 and 2004 Kensington Gold Project Final SEISs. The 2004 Final SEIS and Record of Decision, along with other supporting documents, are available at: https://www.fs.usda.gov/project/?project=55533.

Project Location: The Mine is located at the southern end of the Kakuhan Range off the coastal mountains on the small peninsula formed between Lynn Canal and Berners Bay, on the Juneau Ranger District of the Tongass National Forest. The Mine is located about 45 air miles northwest of Juneau, 35 air miles south of Haines, and within the boundary of the City and Borough of Juneau, Alaska. The Mine is accessible by passenger ferry, cargo barge, floatplane, or helicopter.

Tongass Land and Resource Management Plan (Forest Plan): The primary land use designation in the Forest Plan for the Mine site is Modified Landscape (to provide for natural appearing landscapes while allowing timber harvest). The area also has an overlay designation of Minerals (to encourage mineral exploration and development of areas with high mineral potential).

Purpose and Need for Action

Coeur Alaska is requesting additional tailings, waste rock disposal, and related infrastructure at the Mine to reflect positive exploration results, improved metal prices, and ongoing operational efficiencies. According to Coeur Alaska, these additions would allow for continuous site operations in a safe, environmentally sound, technically feasible, and economically viable manner, while complying with regulatory requirements. The existing tailings and waste rock storage is considered sufficient to provide for the Mine's needs until 2023; proposed activities would extend the mine life by 10 years until 2033. The purpose of this SEIS is for the Forest Service to consider the proposed changes and to determine whether there is a need to amend the Plan of Operations.

Proposed Action

Coeur Alaska has proposed POA 1 to attain a life of mine extension. Through ongoing exploration efforts, additional ore resources have been identified within the Kensington and Jualin deposits at the Mine. Both deposits are currently being mined and the estimated ore production would result in the need for additional tailings and waste rock storage capacity. The proposal to expand the disturbance area authorized under the approved 2005 Plan of Operations by approximately 150 acres and achieve a life of mine extension of about 10 years includes the following main elements:

• Construction of a Stage 4 dam raise of the existing Tailings Treatment Facility, formerly known as Lower Slate Lake, including a causeway between the Tailings Treatment Facility and Upper Slate Lake;

• Relocation of seepage collection sumps, access road, power line, pipelines, and stormwater diversion channels;

• Expansion of three existing Waste Rock Stockpiles: Kensington, Pit #4, and Comet;

• Construction of one additional Waste Rock Stockpile (Pipeline Road);

• Relocation of ancillary facilities including the water treatment plants at the Tailings Treatment Facility area;

• Increase mill production from 2,000 tons per day to 3,000 tons per day to provide operational flexibility and make up for periods of maintenance shutdowns; and

• Construction of access roads to mitigate Slate Creek resident fish spawning habitat losses by constructing deltas and rerouting Fat Rat Creek into South Creek, and culvert replacements to promote fish passage.

In general, POA 1 focuses on proposed operational changes, a new waste rock stockpile facility, and expansions of mine facilities presented in the 2005 Plan of Operations. If approved, POA 1 would supersede the existing Plan of Operations where changes are proposed; however, the approved Plan of Operations would control any items not discussed in POA 1.

Possible Alternatives

A no-action alternative, which represents no changes to the approved 2005 Plan of Operations and serves as the baseline for the comparison among the action alternatives, will be analyzed in addition to the proposed action. Comments we receive in response to this Notice of Intent may identify additional reasonable alternatives.

Lead and Cooperating Agencies

The USDA Forest Service is the lead agency for the proposed action and compliance with the National Environmental Policy Act. The Tongass National Forest has identified multiple agencies with special expertise with respect to the proposed action that could serve as cooperating agencies. The U.S. Army Corps of Engineers has special expertise with assessing impacts to waters of the United States, including wetlands; additionally, a Section 404 of the Clean Water Act permit will be needed from this agency. From the State of Alaska, at least three departments could be cooperating agencies due to their expertise and involvement in evaluations for this type of permit application. These departments include the Alaska Departments of Fish and Game, Environmental Conservation, and Natural Resources. Locally, the City and Borough of Juneau could be a cooperating agency as the Mine is within its boundaries and it issues permits for certain facilities at the Mine. The Tongass National Forest will conduct an effort to formally identify cooperating agencies.

Responsible Official

The responsible official for the decision on this project is the Forest Supervisor, Tongass National Forest, Federal Building, 648 Mission Street, Ketchikan, Alaska 99901.

Nature of Decision To Be Made

The Forest Supervisor is the responsible official for this action and will decide whether to amend the approved Plan of Operations. The decision will be based on information that is disclosed in the Final SEIS. The responsible official will consider the comments, responses, disclosure of environmental consequences, and applicable laws, regulations, and policies in deciding whether to amend the Plan of Operations and will state the rationale for the decision in the record of decision.

Scoping Process

This Notice of Intent initiates the scoping process, which guides the development of the SEIS through internal and external input on the issues, impacts, and alternatives to consider. The Forest Service will invite the public to participate in scoping meetings in Juneau and Haines, Alaska. These meetings will be posted on the Forest's website at https://www.fs.usda.gov/project/?project=55533 and will be advertised in the Juneau Empire and the Ketchikan Daily News, newspapers of record, to announce the date, time, place, and purpose of the public scoping meetings.

Forest Service regulations at 36 CFR 218 subparts A and B, regarding the project-level predecisional administrative review process, apply to projects and activities implementing land management plans that are not authorized under the Healthy Forest Restoration Act. Only individuals or entities who submit timely and specific written comments concerning the project during this or another designated public comment period established by the responsible offical will be eligible to file on objection. It is important that reviewers provide their comments at such times and in such manner that they are useful to the agency's preparation of the SEIS. Therefore, comments should be provided prior to the close of the comment period and should clearly articulate the reviewer's concerns and contentions.

Names of commenters and comments received in response to this solicitation will be part of the public record for this proposed action. Comments submitted anonymously will be accepted and considered, however, anonymous commenters will not gain standing to object as defined in 36 CFR 218.2.

Dated: August 15, 2019.
Richard A. Cooksey,
Acting Associate Deputy Chief, National Forest System.

[FR Doc. 2019-20534 Filed 9-20-19; 8:45 am]

BILLING CODE 3411-15-P